DEPARTMENT OF AGRICULTURE

Forest Service

Notice of New Recreation Fee Site; Federal Lands Recreation Enhancement Act, (Title VIII, Pub. L. 108-447)

AGENCY: Forest Service, USDA.

ACTION: Notice of new recreation fee site.

SUMMARY: The National Forests in North Carolina will begin charging a $3.00 special recreation permit fee per user per day and $30.00 per user for a season pass for use of the Flintlock Shooting Range. The shooting range is managed to provide a legal shooting opportunity, to protect forest resources and will facilitate continued sport shooting use within the National Forests in North Carolina on the Uwharrie Ranger District. Fee revenue will support operations and maintenance of the shooting range and future site improvements.

DATES: The fee is scheduled for implementation in May of 2007.

FOR FURTHER INFORMATION CONTACT: David H. Wright, Recreation Fee Coordinator, 828-257-4256, National Forest in North Carolina, PO Box 2750, Asheville, NC 28802.

SUPPLEMENTARY INFORMATION: The Federal Recreation Lands Enhancement Act (Title VIII, Pub. L. 108-447) directed the Secretary of Agriculture to publish advance notice in the Federal Register whenever new recreation fee areas are established. This new fee will be reviewed by a Recreation Resource Advisory Committee prior to a final decision and implementation. The National Forests in North Carolina presently manages one other shooting range fee site in North Carolina. Recreation fees are $2.00 per user per day and $20.00 per user per season pass at this site. The Flintlock Shooting Range will offer a vault toilet facility at the site, trash receptacle, improved parking area, information kiosk, 100 yard and 50 yard shooting lanes, shooting benches and shooting bench weather shelters.

Dated: November 3, 2006.
Marisue Hilliard,
National Forests in North Carolina Supervisor.

[FR Doc. 06-9134 Filed 11-8-06; 8:45 am]

BILLING CODE 3410-52-M